DEPARTMENT OF ENERGY

Federal Energy Regulatory Commission

[Docket Nos. RP04-203-000, RP05-105-000 and RP05-164-000]

Equitrans, L.P.; Notice of Informal Settlement Conference

August 9, 2005.

Take notice that an informal settlement conference will be convened in this proceeding commencing at 10 a.m. (EST) on Tuesday, August 16, 2005 and continuing, if necessary, on Wednesday, August 17, 2005 at 10 a.m. (EST) at the Federal Energy Regulatory Commission, 888 First Street, NE., Washington, DC 20426, for the purpose of exploring a possible settlement in the above-referenced proceeding.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an e-mail to accessibility@ferc.gov or call toll free 1-866-208-3372 (voice) or 202-208-1659 (TTY), or send a FAX to 202-208-2106 with the required accommodations.

For additional information, please contact Lorna J. Hadlock (202-502-8737).

Linda Mitry,
Deputy Secretary.

[FR Doc. E5-4432 Filed 8-15-05; 8:45 am]

BILLING CODE 6717-01-P